NATIONAL AERONAUTICS AND SPACE ADMINISTRATION

[Notice (00-078)]

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13: 44 U.S.C. 3506(c)(2)(A)). This information is used to determine whether the requested survey should be granted.

DATES: Written comments and recommendations on the proposal for the collection of information should be received on or before September 12, 2000.

ADDRESSES: All comments should be addressed to Ms. Linda Connell, MS 262-7, Ames Research Center, National Aeronautics and Space Administration, Moffett Field, CA 94035-1000. All comments will become a matter of public record and will be summarized in NASA's request for OMB approval.

FOR FURTHER INFORMATION CONTACT: Ms. Carmela Simonson, Office of the Chief Information Officer, (202) 358-1223.

Reports: None.

Title: National Aviation Operations Monitoring Service.

OMB Number: 2700-___

Type of review: New.

Need and Uses: This data collection will be used to help evaluate national aviation safety through the establishment of a survey based methodology. Information provided will be used to measure and monitor aviation safety; namely the pilots, air traffic controllers, mechanics and flight attendants who routinely operate aircraft and provide support services.

Affected Public: Individuals or households.

Number of Respondents: 5,000.

Responses Per Respondent: 1-4.

Annual Responses: 8,000.

Hours Per Request: ½ hr to ¾ hr.

Annual Burden Hours: 5,907.

Frequency of Report: Annually/Quarterly.

David B. Nelson,
Deputy Chief Information Officer, Office of the Administrator.

[FR Doc. 00-17841 Filed 7-13-00; 8:45 am]

BILLING CODE 7510-01-U